DEPARTMENT OF ENERGY

Notice of Orders Issued Under Section 3 of The Natural Gas Act During August 2020

| FE Docket Nos.
BLUEWATER GAS STORAGE, LLC | 20-76-NG
ENERGIA AZTECA X, S.A. DE C.V | 20-78-NG
ARM ENERGY MANAGEMENT LLC | 20-79-NG
ALASKA LNG PROJECT LLC | 14-96-LNG
TECHGEN S.A. DE C.V | 20-80-NG

AGENCY: Office of Fossil Energy, Department of Energy.

ACTION: Notice of orders.

SUMMARY: The Office of Fossil Energy (FE) of the Department of Energy gives notice that during August 2020, it issued orders granting authority to import and export natural gas, and to import and export liquefied natural gas (LNG). These orders are summarized in the attached appendix and may be found on the FE website at https://www.energy.gov/fe/listing-doefe-authorizationsorders-issued-2020.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on September 15, 2020.
Amy Sweeney,
Director, Office of Regulation, Analysis, and Engagement, Office of Oil and Natural Gas.

APPENDIX

DOE/FE Orders Granting Import/Export Authorizations
4568 | 08/12/20 | 20-76-NG | Bluewater Gas Storage, LLC | Order 4543 granting blanket authority to import/export natural gas from/to Canada.
4569 | 08/12/20 | 20-78-NG | Energia Azteca X, S.A. de C.V | Order 4544 granting blanket authority to export natural gas to Mexico.
4570 | 08/12/20 | 20-79-NG | ARM Energy Management LLC | Order 4545 granting blanket authority to import natural gas from Canada/Mexico.
3643-A | 08/20/20 | 14-96-LNG | Alaska LNG Project LLC | Final Opinion and Order 3643-A granting long-term authority to export LNG to Non-Free Trade Agreement Nations.
4571 | 08/26/20 | 20-80-NG | Techgen S.A. de C.V | Order 4571 granting blanket authority to export natural gas to Mexico.

[FR Doc. 2020-20743 Filed 9-18-20; 8:45 am]

BILLING CODE 6450-01-P